SECURITIES AND EXCHANGE COMMISSION

Proposed Collection; Comment Request

Upon Written Request, Copies Available From: Securities and Exchange Commission, Office of Filings and Information Services, Washington, DC 20549.

New Information Collection:

Study of Marketing and Delivery of Financial Products to Individual Investors, OMB Control No. 3235-xxxx; SEC File No. 270-561.

Notice is hereby given that pursuant to the Paperwork Reduction Act of 1995 (44 U.S.C. 3501 et seq.) the Securities and Exchange Commission (“Commission”) is soliciting comments on the collection of information summarized below. The Commission plans to submit this collection of information to the Office of Management and Budget for approval.

The Commission has engaged an outside contractor to undertake a study that will involve collecting, categorizing, and analyzing empirical data regarding the marketing, sale and delivery of financial products, accounts, programs and services offered to individual investors by broker-dealers and investment advisers. The contractor's findings will be summarized in a report for the Commission.

Participation in the study will be voluntary. Information collected during the study will not be kept confidential, except that the identity of a study participant, and information that would identify a participant to anyone outside the study will not be disclosed without the participant's consent, except as required by law. Participants in the study are expected to include broker-dealers, investment advisers, individual investors, investor advocates and industry groups. We estimate that there would be approximately 330 participants in the study at an estimated 1.5 hours for a total annual burden of approximately 500 hours.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington DC 20503 or send an e-mail to David_Rostker@omb.eop.gov; and (ii) R. Corey Booth, Director/Chief Information Officer, Securities and Exchange Commission, C/O Shirley Martinson 6432 General Green Way, Alexandria, VA 22312; or send an e-mail to: PRA_Mailbox@sec.gov. Comments must be submitted to OMB within 30 days of this notice.

January 3, 2007.
Florence E. Harmon,
Deputy Secretary.

[FR Doc. E7-300 Filed 1-11-07; 8:45 am]

BILLING CODE 8011-01-P